DEPARTMENT OF ENERGY

Federal Energy Regulatory Commission

Combined Notice of Filings #1

Take notice that the Commission received the following electric rate filings:

Docket Numbers: ER16-700-004.

Applicants: CPV Towantic, LLC.

Description: Notice of Change in Status of CPV Towantic, LLC.

Filed Date: 1/15/19.

Accession Number: 20190115-5316.

Comments Due: 5 p.m. ET 2/5/19.

Docket Numbers: ER17-1531-003.

Applicants: CPV Fairview, LLC.

Description: Notice of Change in Status of CPV Fairview, LLC.

Filed Date: 1/17/19.

Accession Number: 20190117-5105.

Comments Due: 5 p.m. ET 2/7/19.

Docket Numbers: ER17-1622-003.

Applicants: J. Aron & Company LLC.

Description: Notice of Non-Material Change in Status of J. Aron & Company LLC.

Filed Date: 1/17/19.

Accession Number: 20190117-5104.

Comments Due: 5 p.m. ET 2/7/19.

Docket Numbers: ER18-554-001.

Applicants: Midcontinent Independent System Operator, Inc.

Description: Midcontinent Independent System Operator, Inc. submits tariff filing per 35.19a(b): Refund Report Carville Energy to be effective N/A.

Filed Date: 1/16/19.

Accession Number: 20190116-5150.

Comments Due: 5 p.m. ET 2/6/19.

Docket Numbers: ER18-1473-002.

Applicants: Midcontinent Independent System Operator, Inc.

Description: Midcontinent Independent System Operator, Inc. submits tariff filing per 35.19a(b): Refund Report Pioneer Trail Wind Farm to be effective N/A.

Filed Date: 1/16/19.

Accession Number: 20190116-5151.

Comments Due: 5 p.m. ET 2/6/19.

Docket Numbers: ER19-34-001.

Applicants: Midcontinent Independent System Operator, Inc.

Description: Tariff Amendment: 2019-01-18 Deficiency Response re Pseudo-Tie Congestion Overlap Phase 2 Filing to be effective 3/1/2019.

Filed Date: 1/18/19.

Accession Number: 20190118-5035.

Comments Due: 5 p.m. ET 2/8/19.

Docket Numbers: ER19-205-001.

Applicants: Dearborn Industrial Generation, L.L.C.

Description: Tariff Amendment: Response to Deficiency Letter to be effective 12/31/9998.

Filed Date: 1/18/19.

Accession Number: 20190118-5058.

Comments Due: 5 p.m. ET 2/8/19.

Docket Numbers: ER19-827-000.

Applicants: Montana-Dakota Utilities Co.

Description: § 205(d) Rate Filing: Notice of Succession to be effective 1/18/2019.

Filed Date: 1/17/19.

Accession Number: 20190117-5065.

Comments Due: 5 p.m. ET 2/7/19.

Docket Numbers: ER19-828-000.

Applicants: Solomon Forks Wind Project, LLC.

Description: Baseline eTariff Filing: Application for Market-Based Rate Authorization to be effective 3/19/2019.

Filed Date: 1/17/19.

Accession Number: 20190117-5083.

Comments Due: 5 p.m. ET 2/7/19.

Docket Numbers: ER19-830-000.

Applicants: Florida Power & Light Company.

Description: Notice of Termination of Agreements of Florida Power & Light Company.

Filed Date: 1/16/19.

Accession Number: 20190116-5154.

Comments Due: 5 p.m. ET 2/6/19.

Docket Numbers: ER19-831-000.

Applicants: American Transmission Systems, Incorporated, PJM Interconnection, L.L.C.

Description: § 205(d) Rate Filing: ATSI submits one ECSA, Service Agreement No. 5202 to be effective 3/19/2019.

Filed Date: 1/18/19.

Accession Number: 20190118-5081.

Comments Due: 5 p.m. ET 2/8/19.

Docket Numbers: ER19-832-000.

Applicants: Duke Energy Florida, LLC.

Description: Tariff Cancellation: DEF Notice of Cancellation of Seven Jurisdictional Agreements to be effective 1/1/2014.

Filed Date: 1/18/19.

Accession Number: 20190118-5098.

Comments Due: 5 p.m. ET 2/8/19.

Docket Numbers: ER19-833-000.

Applicants: Duke Energy Carolinas, LLC.

Description: § 205(d) Rate Filing: DEC-NCMPA No. 1 NITSA (SA No. 212) Amendment to be effective 1/1/2019.

Filed Date: 1/18/19.

Accession Number: 20190118-5099.

Comments Due: 5 p.m. ET 2/8/19.

Docket Numbers: ER19-834-000.

Applicants: MDU Resources Group, Inc., Montana-Dakota Utilities Co.

Description: Petition for Waiver of Affiliate Pricing Rules of MDU Resources Group, Inc.

Filed Date: 1/17/19.

Accession Number: 20190117-5114.

Comments Due: 5 p.m. ET 2/7/19.

Docket Numbers: ER19-835-000.

Applicants: Duke Energy Progress, LLC.

Description: § 205(d) Rate Filing: DEP-French Broad EMC (RS No. 210) Amendment (State ADIT) to be effective 11/1/2018.

Filed Date: 1/18/19.

Accession Number: 20190118-5142.

Comments Due: 5 p.m. ET 2/8/19.

Docket Numbers: ER19-836-000.

Applicants: El Paso Electric Company.

Description: § 205(d) Rate Filing: Service Agreement No. 315, EDF PTP to be effective 3/19/2019.

Filed Date: 1/18/19.

Accession Number: 20190118-5170.

Comments Due: 5 p.m. ET 2/8/19.

Docket Numbers: ER19-837-000.

Applicants: C.P. Crane LLC.

Description: Baseline eTariff Filing: Baseline new to be effective 1/19/2019.

Filed Date: 1/18/19.

Accession Number: 20190118-5172.

Comments Due: 5 p.m. ET 2/8/19.

Take notice that the Commission received the following foreign utility company status filings:

Docket Numbers: FC19-2-000.

Applicants: Ronaver Energy Limited.

Description: Foreign Utility Company Status of Ronaver Energy Limited.

Filed Date: 1/18/19.

Accession Number: 20190118-5082.

Comments Due: 5 p.m. ET 2/8/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 18, 2019.
Nathaniel J. Davis, Sr.,
Deputy Secretary.

[FR Doc. 2019-00521 Filed 1-30-19; 8:45 am]

BILLING CODE 6717-01-P